DEPARTMENT OF TRANSPORTATION

Federal Aviation Administration

14 CFR Part 71

[Docket No. FAA-2020-0187; Airspace Docket No. 19-ASO-27]

RIN 2120-AA66

Proposed Amendment and Removal of Air Traffic Service (ATS) Routes; Eastern United States

AGENCY: Federal Aviation Administration (FAA), DOT.

ACTION: Notice of proposed rulemaking (NPRM).

SUMMARY: This action proposes to amend 9 jet routes, remove 22 jet routes, and remove 1 high altitude area navigation (RNAV) route in the eastern United States. This action is in support of the Northeast Corridor Atlantic Coast Route Project to improve the efficiency of the National Airspace System (NAS) and reduce dependency on ground-based navigational systems.

DATES: Comments must be received on or before May 7, 2020.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2020-0187; Airspace Docket No. 19-ASO-27 at the beginning of your comments. You may also submit comments through the internet at http://www.regulations.gov.

FAA Order 7400.11D, Airspace Designations and Reporting Points, and subsequent amendments can be viewed online at http://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Sean Hook, Rules and Regulations Group, Office of Policy, Federal Aviation Administration, 800 Independence Avenue SW, Washington, DC 20591; telephone: (202) 267-8783.

SUPPLEMENTARY INFORMATION:

Authority for this Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2020-0187; Airspace Docket No. 19-ASO-27) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0187; Airspace Docket No. 19-ASO-27.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays.

An informal docket may also be examined during normal business hours at the office of the Eastern Service Center, Federal Aviation Administration, Room 210, 1701 Columbia Ave., College Park, GA 30337.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) part 71 to amend 9 jet routes, remove 22 jet routes, and remove 1 high altitude area navigation (RNAV) route in the eastern United States. This action would support the Northeast Corridor Atlantic Coast Route Project by amending and removing certain jet route segments that are being replaced by RNAV routing. Additionally, the proposed jet route changes would reduce aeronautical chart clutter by removing unneeded route segments.

In this NPRM, where new navigation aid radials are proposed in an amended jet route description, both “True” (T) and “Magnetic” (M) degrees will be stated. Existing radials in the descriptions are expressed only in True degrees. Some jet routes discussed in this preamble include points that are identified by the intersection of radials from two VOR or VORTAC navigation facilities. In some cases, those intersections are assigned a specific fix name that is depicted on aeronautical charts (e.g., TYDOE, GA). While these fix names are not stated in the regulatory descriptions of jet routes, they are noted in the preamble text below to assist readers in locating that point on aeronautical charts.

The proposed route changes are as follows:

J-2: J-2 currently extends between the Mission Bay, CA, VORTAC, and the Taylor, FL, VORTAC. This action proposes to remove the segment of the route between the Seminole, FL, VORTAC and the Taylor, FL, VORTAC. As amended, J-2 would extend between the Mission Bay VORTAC and intersection of the Crestview, FL, 091° and Seminole, FL, 290° radials (depicted on aeronautical charts as the OJHAP, FL, INT).

J-14: J-14 currently extends between the Panhandle, TX, VORTAC, and the Patuxent, MD, VORTAC. This action proposes to remove the segment between the Greensboro VORTAC, and the Patuxent VORTAC. Concurrent changes to other portions of the airway are being proposed in separate NPRMs. The unaffected portions of the existing airway would remain as charted.

J-24: J-24 currently extends, in two parts: Between the Myton, UT, VOR/DME, and the Hayden, CO, VOR/DME; and between the Hugo, CO VOR/DME, and the Harcum, VA, VORTAC. This action proposes to remove the segments between the Montebello, VA, VOR/DME, and the Harcum VORTAC. As amended, J-24 would extend, in two parts: Between Myton, UT, and Hayden, CO; and between Hugo, CO, and Montebello, VA.

J-37: J-37 currently consist of three separate segments: Between Hobby, TX, VOR/DME and Montgomery, AL, VORTAC; followed by a gap; and then between Lynchburg, VA, VOR/DME and Coyle, NJ, VORTAC; followed by a gap; and then between Kennedy, NY, VOR/DME, and Massena, NY, VORTAC. As amended, J-37 would just consist of a single segment between Hobby, TX and Montgomery, AL.

J-39: J-39 currently extends between the Crestview, FL, VORTAC, and the Rosewood, OH, VORTAC. This action would remove the portion of the route between the Crestview, FL and the Montgomery, AL, VORTAC. The amended route would extend between Montgomery, AL and Rosewood, OH.

J-42: J-42 currently extends between the Delicias, Mexico, VOR/DME, and the Boston, MA, VOR/DME. This action would remove the segment between Nottingham, MD, VORTAC, and Boston, MA. The amended route would extend between Delicias, Mexico and Gordonsville, VA, VORTAC. The portion within Mexico is excluded.

J-52: J-52 currently extends in two parts: Between Vancouver, BC, Canada, VOR/DME, and the Columbia, SC, VORTAC; followed by a gap in the route, and resuming between the intersection of the Columbia, SC, 042° and the Flat Rock, VA, 212° radials (TUBAS Fix) and Richmond, VA, VOR/DME. This action would remove the segment from Atlanta, GA, VORTAC, and Richmond, VA. The amended route would extend between Vancouver, BC and Vulcan, AL, VORTAC. The portion within Canada is excluded.

J-55: J-55 currently extends in two parts: Between the Charleston, SC, VORTAC, and INT Hopewell, VA, 030° and Nottingham, MD, 174° radials; followed by a gap in the route, and resuming between Sea Isle, NJ, VORTAC, and Presque Isle, ME, VOR/DME. The FAA proposes to remove the entire route.

J-61: J-61 currently extends between the WETRO, NC, WP (defined by the intersection of the Dixon, NC, NDB 023° and Nottingham, MD, VORTAC 174° radials), and the Philipsburg, PA, VORTAC. This action would remove the segment between the WETRO WP and the Nottingham VORTAC. The amended route would extend from the Westminster, MD, VORTAC, and the Philipsburg VORTAC.

J-62: J-62 currently extends between the Robbinsville, NJ, VORTAC, and INT Hopewell, VA, 030° and Nottingham, MD, 174° radials; followed by a gap in the route, and resuming between Sea Isle, NJ, VORTAC, and Presque Isle, ME, VOR/DME. The FAA proposes to remove the entire route. Alternative routing is available via J-222 to J-79.

J-68: J-68 currently extends in two parts: Between Gopher, MN, VORTAC, and Flint, MI, VORTAC; followed by a gap in the route, and resuming between Hancock, NY, VOR/DME, and Nantucket, MA, VOR/DME. The FAA proposes to remove the latter section from Hancock to Nantucket. The amended route would extend from Gopher VORTAC to Flint VORTAC.

J-79: J-79 currently extends between Charleston, SC, VORTAC, and Bangor, ME, VORTAC. The FAA proposes to delete the entire route.

J-109: J-109 currently extends between the Wilmington, NC, VORTAC, and the Linden, VA, VORTAC. The FAA proposes to remove the entire route.

J-121: J-121 currently extends between the Charleston, SC, VORTAC, and the Kennebunk, ME, VOR/DME. The FAA proposes to remove the entire route.

J-150: J-150 extends between the Gordonsville, VA, VORTAC and STOOL INT (defined as the Marconi, MA, 082° and the Boston, MA, 097° radials). The FAA proposes to remove the entire route.

J-165: J-165 currently extends between the intersection of the Charleston, SC, VORTAC 025° and the Florence, SC, VORTAC 085° radials (DWYTE Fix) and the Richmond, VA, VOR/DME. The FAA proposes to remove the entire route.

J-174: J-174 currently extends between Charleston, SC, VORTAC, and the intersection of the Marconi, MA, VOR/DME 090° and the Nantucket, MA, VOR/DME 066° radials. The FAA proposes to remove the entire route.

J-191: J-191 currently extends between the Robbinsville, NJ, VORTAC, and the Wilmington, NC, VORTAC. The FAA proposes to remove the entire route.

J-193: J-193 currently extends between the Wilmington, NC, VORTAC, and the Harcum, VA, VORTAC 006° and Hopewell, VA, VORTAC 030° radials (HUBBS INT). The FAA proposes to remove the entire route.

J-207: J-207 currently extends between the Florence, SC, VORTAC, and the Franklin, VA, VORTAC. The FAA proposes to remove the entire route.

J-209: J-209 currently extends between the Raleigh-Durham, NC, VORTAC, and the intersection of the Coyle, NJ, VORTAC 036° and the Robbinsville, NJ, VORTAC 136° radials. The FAA proposes to remove the entire route.

J-222: J-222 currently extends between the Robbinsville, NJ, VORTAC, and the Cambridge, NY, VOR/DME. The FAA proposes to remove the entire route.

J-225: J-225 currently extends between the Cedar Lake, NJ, VOR/DME, and the Providence, RI, VOR/DME. The FAA proposes to remove the entire route.

J-230: J-230 currently extends between the Robbinsville, NJ, VORTAC, and the Bellaire, OH, VOR/DME. The FAA proposes to remove the entire route.

J-506: J-506 currently extends between the Millinocket, ME, VOR/DME and the intersection of the St John, NB, Canada, VOR/DME 267° radial with the United States/Canadian border. The FAA proposes to remove the entire route.

J-561: J-561 currently extends between the Presque Isle, ME, VOR/DME, and the Mont Joli, PQ, Canada, VOR/DME, excluding the portion outside of the United States. The FAA proposes to remove the entire route.

J-563: J-563 currently extends between the Albany, NY, VORTAC, and the Sherbrooke, BC, Canada, VOR/DME, excluding the portion outside of the United States. The FAA proposes to remove the entire route.

J-570: J-570 currently extends between the Albany, NY, VORTAC, and the Mirabel, PQ, Canada, VOR/DME, excluding the portion outside of the United States. The FAA proposes to remove the entire route.

J-573: J-573 currently extends between the Kennebunk, ME, VOR/DME, and the St John, NB, Canada, VOR/DME, excluding the portion outside of the United States. The FAA proposes to remove the entire route.

J-582: J-582 currently extends between the Presque Isle, ME, VOR/DME, and the Sept Isle, PQ, Canada, VOR/DME, excluding the portion outside of the United States. The FAA proposes to remove the entire route.

J-585: J-585 currently extends between the Nantucket, MA, VOR/DME, and the Yarmouth, NS, Canada, VOR/DME, excluding the portion outside of the United States. The FAA proposes to remove the entire route.

In addition to the above jet route changes, the FAA proposes to remove one high altitude RNAV route as follows:

Q-108: Q-108 currently extends between the GADAY, FL, WP and the HKUNA, FL, fix. The FAA proposes to remove the entire route.

Jet routes are published in paragraph 2004; and United States Area Navigation Routes are published in paragraph 2006; of FAA Order 7400.11D dated August 8, 2019, and effective September 15, 2019, which is incorporated by reference in 14 CFR 71.1. The jet routes and RNAV route listed in this document would be subsequently amended in, or removed, respectively, from the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes

J-2

From Mission Bay, CA; Imperial, CA; Bard, AZ; INT Bard 089° and Gila Bend, AZ, 261°radials; Gila Bend; Tucson, AZ; El Paso, TX; Fort Stockton, TX; Junction, TX; San Antonio, TX; Humble, TX; Lake Charles, LA; Fighting Tiger, LA; Semmes, AL; Crestview, FL; to INT Crestview 091°and Seminole, FL, 290°radials.

J-14

From Panhandle, TX; via Will Rogers, OK; Little Rock, AR; to Vulcan, AL.

J-24

From Myton, UT, to Hayden, CO. From Hugo, CO, Hays, KS; via Salina, KS; Kansas City, MO; St. Louis, MO; Brickyard, IN; Falmouth, KY; Charleston, WV; to Montebello, VA.

J-37

From Hobby, TX, via INT of the Hobby 090° and Harvey, LA, 266° radials; Harvey; Semmes, AL; to Montgomery, AL.

J-39

From Montgomery, AL; Vulcan, AL, Nashville, TN; Louisville, KY, to Rosewood, OH.

J-42

From Delicias, Mexico, via Fort Stockton, TX; Abilene, TX; Ranger, TX; Texarkana, AR; Memphis, TN; Nashville, TN; Beckley, WV; Montebello, VA; to Gordonsville, VA.

J-52

From Vancouver, BC, Canada; via Spokane, WA; Salmon, ID; Dubois, ID; Rock Springs, WY; Falcon, CO; Hugo, CO; Lamar, CO; Liberal, KS; INT Liberal 137° and Ardmor, OK 309° radials; Ardmore; Texarkana, AR; Sidon, MS; Bigbee, MS; to Vulcan, AL.

J-55 [Remove]

J-61

From Westminster, MD; to Philipsburg, PA.

J-62 [Remove]

J-68

From Gopher, MN, INT Gopher 109° and Dells, WI, 310° radials; Dells; Badger, WI; INT Badger 086° and Flint, MI, 278° radials; to Flint.

J-79 [Remove]

J-109 [Remove]

J-121 [Remove]

J-150 [Remove]

J-165 [Remove]

J-174 [Remove]

J-191 [Remove]

J-193 [Remove]

J-222 [Remove]

J-225 [Remove]

J-230 [Remove]

J-506 [Remove]

J-561 [Remove]

J-563 [Remove]

J-570 [Remove]

J-573 [Remove]

J-582 [Remove]

J-585 [Remove]

Paragraph 2006 United States Area Navigation Routes.

Q-108 [Remove]

Issued in Washington, DC, on March 11, 2020.
Scott M. Rosenbloom,
Acting Manager, Airspace Policy Group.

[FR Doc. 2020-05857 Filed 3-20-20; 8:45 am]

BILLING CODE 4910-13-P